DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountabiliy Act (HIPPA) of 1996. This listing contains the name of each individual losing United States citizenship (within the meaning of section 877(a)) with respect to whom the Secretary received information during the quarter ending September 30, 2002.

Last name | First name | Middle name
Delaney | Louanne | Claire
Morrish | William | Fraser
Carvais | Jean |
Kruse | Peter |
Bonifaci | Federica |
Nielsen | Erik | Helmuth
Ramsdell | Roger | Keith
Park | Andrew | Lee
Chow | Chun | Yin
Kwan | Ivy | Kin Han
Boller | Jean | Evelyn
Rask | Joan | Louise
Liguori | Michael |
Dragomer | Peter | Andrew
Purvis | Robert | Kenneth Berry
Minjares | Jesse | Vega
Koch | JoAnn |
Byrne Jr | Harry | Edward
Rasmussen | Steen | Thorsted
Al-Ghanem | Thunayan | Khalid
Silver | Maria | Erecinska
Cannell | Robert | Q.
Valentini | Malvin | J.
Cevallos | Gaston | D.
Moinian | Shahrokh |
Navon | Jonathan |
Jean-Loup | Parier |
Dessaulles | Georges | H.
Wang | Walter | H.
McNair | Elizabeth | Louise
Person | John | Michael
Person | Linda | Jane
Bezold | Karolyn | Jean
Rauchensteiner | Leopold |
Matschulat | Helen | Elizabeth
Thomas | Mark | Russell
Breen | James | William
Breen | Elizabeth | Evelyn
Arseneau | Diana | Elizabeth
Jones | Uwe | Manfred
Tsay | Ting | Kuei
Urrutia | Maria | Del Dulce Nombre
Urrutia Ybarra | Juan | Ramon
Varsavsky | Martin |
Fletcher | Frank | Robert
Avaznia | Tatiana |
Marguardt | Agatha |
Ho | Chung | Hung
Gillery | Scott | Murray
Dixon | Richard | Franklin
Price | Stephen |
Bouffier | Carolina | Yvonne
Al-Granem | Shareefah | Khaled
Bengali | Raahil | Razak
Davis | Mary | Catherine
Mallatratt | Gail |
Carlson | James | Edward
Nielsen | Asta | Elisabeth
Cohen | Paul | Harder
Griffin | Ketty | Lillian
Duchin | David | Sebastain
Armstrong | Jennifer | Diane
Schultz | Kent | Joseph
Jekabsons | Eriks |
Leccese | Arthur | Philip
Caruthers | Lawrence | Constant
De St Sauveur | Michelle |
Howard | Gail | Patricia
Hanrahan | Coleen | Mary
Green | Cornelia | Ward
Staub | Carmen | Sharon
Schuschnig | Daniel |
Tedeschi | Giorgio |
Petersen | Gudrun | Richter
Hijazi | Ali | Nabil
Dvorsky | Bronislaw | Naum
Harries | Boyce | Marquis Allen
Teh | Hau | Fung
Flesher | Sonja | Victoria
James | Myfanwy | Iona
Lewis | Ruth | Hope
De Vlugt | Caroline | Elizabeth
Hung | Jocelyn | Hui Po Wang
Trinchitella | Janel | Denise
Smith | Stephanie | Lynn
Bell Jr | Harry | Robert
Isaac | Reiko |
Leung | Jacqueline | Alee
Kaegi | Joan | Lorraine
McMurrich | James | Ronald
Holmes | John | James Mitchell
Jamison | Britton | Swarte
Hovannisian | Raffi | K.
Werklund | David | Paul
Farquhar | Marcia | Fay
Harris | Pok | Nam
Hamasaka | Kentoku |
Watson | Tong | Pun
Ho | Anthony | Ka King
Miao | Ki | Hong
Shan | Weijian |
Wai | Mirian | Shum
Shimada | Ryosuke |
Tsujigami | Namie |
Kato | David | Hiroyuki
Aldwinckle | David | Christopher
Wada | Takehiko |
Sylvester | Anthony | Brooke
Wells | Kwi | Ye
Likins | Oyo |
Yon | Samuel | Geun-Sung
Yates | Cha | Chun
Jinks | Tae | Sun
Lin | Heng-Yeh |
Gasser | Corinne | Esther
Gudefin | Antoine | Julien
Wettstein-Gasser | Claudia |
Ritter | Eric | Max
Constant | John | C
Hatchek | Steve | Erick
Paulsen | Kattiya | Thaweephol
Nguyen | Thong | Duc
Johannessen | Ellen |
Robinson III | Frank | Bentley
Von Holtzbrinck | Georg | Andreas
Essary | Roscoe | James
Lehbruner | Maximillian | Josef
Devlin | Amanda | Boon Ee
Gurwicz | Oleg | David
Tuttle | Gene | Lyle (A.K.A. Iriel Even-Pinah)
Price | Stephen | J.
Basrawy | Ruth | J.
Egnal | Marc | Matthew
Bang | Peter | Frithjof
Frith | Healther | Allison
Shurman | Mary | Seamans
Samhoun | Steve | Mustafa
Moore | Donald | Ashton
Zeeb | Thomas | Richard Bernd
Berty | Jean-Benoit | Marie-Gael
Golob | James | Stephen
Karolchyk | Darrell |
Ojjeh | Anne-Marie | Hagerty
Allen (Babb) | Thelma | Jean
Sulzer | Maily | Ellen
Williams | Michael |
Poto | Alfred | Pietro
Ebright | Stephen | Arthur
Jordi | Veronika |
Wingerter | Roseanne | Gloria
Weinberger | Christiane | Eva Elisabeth
Lee | Phillip | Hyon
Schweizer | Scott | Michael
Park | Charles | Chan
Cron | Bonita | Marie
Cron | James | Maxwell
Aagaard | Aase |
Patton | Martha | Ann
Shim | Sang | Ho
Park | Seung | Hyub
Park | Byung | Chun
Lee | Hyun | Jean
Fock | Ee-Ling |
Robins | Peter | Dwight
Cox | Michael | Anthony
George | Frederick | Walter
Ngiratregd | Hayes |
Kessler | Mitchel | Jay
Blackmore | Marian | Wynn
Gerrish | Jacqueline | S.
Botero | Carolina | Barco
Jenkins | John | Andrew
Hayden | Hendrik | Leslie
Koehler | Victor |
Diehl | John | Charles
Karsten | Andreas | Hermann
Shahryar | Ishaq |
Fletcher | Douglas | Elmo
Mansfield Skierka | Alice | May
Schumacher | Gayle | Elaine
McCarthy | Suzanne | Joyce
Van Der Merwe | Philip | Anton
Quraeshi | Shoaib |
Cowles | Thomas | Michael
Clay | Ravida |
Hale-Byrne | Andrew | James
Astor | Daphne | Warburg
Pratt | Christopher | Stephen
Hubbard | John | Eaton
Lobo-Schweikert | Maria | Eugenia
Martinez Pelayo | Humberto | Agustin
Boyce Jr | Franklin | Delano
Liu | Yung-Pin |
Yin | Lesamna | Chung-En
Yin | Samuelson | Chung Yao
Ruegemer | Joan | Florence
Fleck | Monica | Annette
Gozolits | Stefan | Norbert
Guthier | Alois |
Martinez | Josef | Ronaldo Hermann
Gowland | Carolyn | Anne
Galindo | Richardo | Alberto
Hutter | Tonya | Marie
Admoni | Nina | Wertans
Mess | Vera | Annette
Wenkstern | Danielle |
Grant | Gordon | David
Clunes | Nigel |
Corser | Patrick | J.B.
Gill | Brendan |
Boote | David | R.D.
Delgado | Paloma |
Reid | Bruce | Hunter
Chen | Fu-Mei |
Lui | Alexander | Yiu Wah
Rechenberg | Dorothea |
Middleton | Mary | Megan
Middleton | Joseph | Leslie
Maher | Mary | Christine
Pillet | Patrick |
Hensler | Guenter |
McKenna | Joanne |
Kessler | Susanne | M.
Grant | David | R.
Hooper | Charles | W. (deceased)

Dated: October 9, 2002.
Samuel Brown,
Team Manager-Examination Operation, Philadelphia Compliance Services.

[FR Doc. 02-27736 Filed 10-30-02; 8:45 am]

BILLING CODE 4830-01-M